DEPARTMENT OF AGRICULTURE

Foreign Agricultural Service

Privacy Act of 1974: New System of Records

AGENCY: Foreign Agricultural Service, USDA.

ACTION: Notice of a proposed new system of records.

SUMMARY: The Foreign Agricultural Service (FAS) proposes to add a new system of records to its inventory of records systems subject to the Privacy Act of 1974 (5 U.S.C. 552a), as amended. This action is necessary to meet the requirements of the Privacy Act to publish in the Federal Register notice of the existence and character of records systems maintained by the agency (5 U.S.C. 552a(e)(4)).

DATES: The new system will be effective without further notice on September 28, 2001, except for the proposed routine uses, which will become effective on November 13, 2001 unless comments are received that would result in a contrary determination.

ADDRESSES: Send written comments to the U.S. Department of Agriculture, FSA/HRD/PMBAB STOP 0595, Attn: Sally Reed, 1400 Independence Avenue, SW., Washington, DC 20250-0595.

FOR FURTHER INFORMATION CONTACT: USDA/FSA/HRD/PMBAB at (202) 418-9000.

SUPPLEMENTARY INFORMATION: The Child Day Care Assistance Records System will collect family income data from FAS employees for the purpose of determining their eligibility for child care assistance, and the amounts of the assistance. It also will collect information from the employee's child care provider(s) for verification purposes, e.g., that the provider is licensed. Collection of data will be by assistance application forms voluntarily submitted by employees.

USDA/FAS-5

System Name:

FAS Child Day Care Assistance Records System.

System Location:

Paper and electronic records will be maintained by the contractor, Federal Employee and Education Assistance Fund, Suite 200, 8441 West Bowles Avenue, Littleton, CO 80123-9501; as well as the U.S. Department of Agriculture, Foreign Agricultural Service, Budget Division, 1400 Independence Avenue, SW., Washington, DC 20250; and the Farm Service Agency, Human Resources Division, 1400 Independence Avenue, SW., Washington, DC 20250 (L Street location).

Categories of Individuals Covered by the System:

(1) Present and former employees of the Foreign Agriculture Service who voluntarily apply for child care assistance, their spouses, and their children who are enrolled in a licensed child day care.

(2) Child-care providers of these employees.

Categories of Records in the System:

Application forms for child day care assistance which contain personal information, including employee (parent) name, social security number, pay grade, home and work numbers, addresses, total family income, spouse's name and social security number, spouse's employment information, names of children on whose behalf the employee (parent) is applying for assistance, each applicable child's date of birth, information on child care providers used (including name, address, provider's license number and State where issued, day care cost, and provider's tax identification number), amount of any other subsidies received, and copies of employee's and spouse's IRS Forms 1040 and 1040A for verification purposes. Other records may include the child's social security number, weekly expenses, pay statements, records relating to direct deposits, and verification of qualification and administration for child care assistance.

Authority for Maintenance of the System:

Pub. L. 106-58, section 643, and E.O. 9397.

Routine Uses of Records Maintained in the System, Including Categories of Users and the Purposes of Such Uses:

a. Records may be released to agency employees on a need-to-know basis.

b. Relevant records relating to an individual may be disclosed to a congressional office in response to an inquiry from the congressional office made at the request of that individual.

c. Relevant information may be disclosed to the Office of the President for responding to an individual pursuant to an inquiry from that individual or from a third party on his/her behalf.

d. Relevant records may be disclosed to representatives of the National Achieves and Records Administration who are conducting records management inspections.

e. Records may be disclosed in response to a request for discovery or for the appearance of a witness, to the extent that what is disclosed is relevant to the subject matter involved in a pending judicial or administrative proceeding.

f. Relevant records may be disclosed to the appropriate Federal, State, or local agency responsible for investigating, prosecuting, enforcing, or implementing a statute, rule, regulation, or order, where FAS becomes aware of an indication of a violation of potential violation of civil or criminal law or regulation.

g. Relevant records may be disclosed to another Federal agency, to a court, or a party in litigation before a court or in an administrative proceeding being conducted by a Federal agency, when the Government is a party to the judicial or administrative proceeding. In those cases where the Government is not a party to the proceeding, relevant records may be disclosed if a subpoena has been signed by a judge of competent jurisdiction.

h. Records may be disclosed to the Department of Justice, or in a proceeding before a court, adjudicative body, or other administrative body before which FAS is authorized to appear, when:

(1) FAS, or any component thereof; or

(2) Any employee of FAS in his or her official capacity; or

(3) Any employee of FAS in his or her individual capacity where the Department of Justice or FAS has agreed to represent the employees; or

(4) The United States, when FAS determines that litigation is likely to affect FAS or any of its components, is a party to litigation or has an interest in such litigation, and the use of such records by the Department of Justice or FAS is deemed by FAS to be relevant and necessary to the litigation provided, however, that the disclosure is compatible with the purpose for which records were collected.

i. In the event that material in this system indicates a violation of law, whether civil, criminal, or regulatory in nature, and whether arising by general statute, or by regulation, rule, or order issued pursuant thereto, the relevant records may be disclosed to the appropriate agency, whether Federal, State, local, or foreign, charged with the responsibility of investigating or prosecuting such violation or charged with enforcing or implementing the statute, rule, regulation, or order, issued pursuant thereto.

j. Relevant records may be disclosed to respond to a Federal agency's request made in connection with the hiring or retention of an employee, the letting of a contract or issuance of a grant, license or other benefit by the requesting agency, but only to the extent that the information disclosed is relevant and necessary to the requesting agency's decision on the matter.

k. Relevant records may be disclosed to the Office of Management or the General Accounting Office when the information is required for evaluation of the subsidy program.

l. Records may be disclosed to a contractor, expert, consultant, grantee, or volunteer performing or working on a contract, service, grant, cooperative agreement, or job for the Federal Government requiring the use of these records.

m. Relevant records may be disclosed to child care providers to verify a covered child's dates of attendance at the providers' facility.

n. Records may be disclosed by FAS in the production of summary descriptive statistics and analytical studies in support of the function for which the records are collected and maintained, or for related workforce studies. While published studies do not contain individual identifiers, in some instances the selection of elements of data included in the study may be structured in such a way as to make the data individually identifiable by inference.

o. Records may be disclosed to officials of the Merit Systems Protection Board or the Office of the Special Counsel, when requested in connection with appeals, special studies of the civil service and other merit systems, review of FAS rules and regulations, investigations and alleged or possible prohibited personnel practices, and such other functions, e.g., as promulgated in 5 U.S.C. 1205 and 1206, or as may be authorized by law.

p. Records may be disclosed to the Equal Employment Opportunity Commission when requested in connection with investigations into alleged or possible discrimination practices in the Federal sector, compliance by Federal agencies with the Uniform Guidelines on Employee Selection Procedures or other functions vested in the Commission and to otherwise ensure compliance with the provisions of 5 U.S.C. 7201.

q. Records may be disclosed to the Federal Labor Relations Authority or its General Counsel when requested in connection with investigations of allegations of unfair labor practices or matters before the Federal Service Impasses Panel.

r. Relevant records may be disclosed to the Internal Service in connection with tax audit and tax record administration, as well as suspected tax fraud.

Purpose:

To establish and verify FAS employees' eligibility for the child day care assistance program in order for FAS to provide monetary assistance to its employees.

Policies and Practices for Storing, Retrieving, Accessing, Retaining, and Disposing of Records in the System:

Storage:

Information may be collected on paper or electronically and may be stored as paper forms or on computers.

Retrievability:

By name; may also be cross-referenced to social security number.

Safeguards:

When not in use by an authorized person, paper records are stored in locked file cabinets or secured rooms. Electronic records are protected by the use of passwords.

Retention and Disposal:

These records will be maintained permanently until their official retention period is established by the Agency or the National Archives and Records Administration.

System Manager(s) and Address:

Chief, Performance Management, Benefits and Awards Branch, FSA/HRD/PMBAB STOP 0595, 1400 Independence Ave, SW., Washington, DC 20250-0595.

Notification Procedure:

Individuals may submit a request on whether a system contains records about them to the system manager indicated. Individuals must furnish their full name and social security number for their records to be located and identified.

Record Access Procedure:

Individuals wishing to request access to records about them should contact the system manager indicated. Individuals must provide their full name and social security number for their records to be located and identified. Individuals requesting access must also follow the USDA's Privacy Act regulations regarding verification of identity and access to records (7 CFR part 1, subpart G).

Contesting Record Procedure:

Individuals wishing to request amendment of records about them should contact the system manager indicated. Individuals must furnish their full name and social security number for their records to be located and identified. Individuals requesting amendment must also follow the USDA's Privacy Act regulations regarding verification of identity and amendment of records (7 CFR part 1, subpart G).

Record Source Categories:

Information is provided by FAS employees who apply for child day care assistance. Furnishing of the information is voluntary.

System Exempted From Certain Provisions of the Act:

None.

Dated: September 20, 2001.
Ann M. Veneman,
Secretary, U.S. Department of Agriculture.

[FR Doc. 01-24317 Filed 9-27-01; 8:45 am]

BILLING CODE 3410-10-M